DEPARTMENT OF ENERGY

Federal Energy Regulatory Commission

Combined Notice of Filings No. 1

September 23, 2010.

Take notice that the Commission has received the following Natural Gas Pipeline Rate and Refund Report filings:

Docket Numbers: RP10-1327-000.

Applicants: Questar Pipeline Company.

Description: Questar Pipeline Company submits tariff filing per 154.203: Addition of Multiple RDC Levels During Term of Agreement to be effective 10/23/2010.

Filed Date: 09/22/2010.

Accession Number: 20100922-5089.

Comment Date: 5 p.m. Eastern Time on Monday, October 4, 2010.

Docket Numbers: RP10-1328-000.

Applicants: Central New York Oil and Gas, LLC.

Description: Central New York Oil and Gas, LLC submits tariff filing per 154.203: Central New York Oil And Gas FERC Gas Tariff 1st Revised Volume 1 to be effective 9/22/2010.

Filed Date: 09/22/2010.

Accession Number: 20100922-5090.

Comment Date: 5 p.m. Eastern Time on Monday, October 4, 2010.

Docket Numbers: RP10-1329-000.

Applicants: Steuben Gas Storage Company.

Description: Steuben Gas Storage Company submits tariff filing per 154.203: Steuben Storage FERC Gas Tariff 1st Revised Volume 1 to be effective 9/22/2010.

Filed Date: 09/22/2010.

Accession Number: 20100922-5098.

Comment Date: 5 p.m. Eastern Time on Monday, October 4, 2010.

Docket Numbers: RP10-1330-000.

Applicants: Tennessee Gas Pipeline Company.

Description: Tennessee Gas Pipeline Company submits tariff filing per 154.204: Varying TQ to be effective 1/1/2011.

Filed Date: 09/22/2010.

Accession Number: 20100922-5139.

Comment Date: 5 p.m. Eastern Time on Monday, October 4, 2010.

Docket Numbers: RP10-1331-000.

Applicants: Columbia Gas Transmission, LLC.

Description: Columbia Gas Transmission, LLC submits tariff filing per 154.204: Non-Conforming Agreement—Jay Bee Production to be effective 10/1/2010.

Filed Date: 09/23/2010.

Accession Number: 20100923-5010.

Comment Date: 5 p.m. Eastern Time on Tuesday, October 5, 2010.

Docket Numbers: RP10-1332-000.

Applicants: Columbia Gulf Transmission Company.

Description: Columbia Gulf Transmission Company submits tariff filing per 154.204: Revision to GTC Section 20—Discounts to be effective 10/23/2010.

Filed Date: 09/23/2010.

Accession Number: 20100923-5020.

Comment Date: 5 p.m. Eastern Time on Tuesday, October 5, 2010.

Docket Numbers: RP10-1333-000.

Applicants: Transcontinental Gas Pipe Line Company, LLC.

Description: Transcontinental Gas Pipe Line Company, LLC submits tariff filing per 154.403(d)(2): LNG Fuel Tracker to be effective 11/1/2010.

Filed Date: 09/23/2010.

Accession Number: 20100923-5057.

Comment Date: 5 p.m. Eastern Time on Tuesday, October 5, 2010.

Any person desiring to intervene or to protest in any of the above proceedings must file in accordance with Rules 211 and 214 of the Commission's Rules of Practice and Procedure (18 CFR § 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25083 Filed 10-5-10; 8:45 am]

BILLING CODE 6717-01-P